DEPARTMENT OF ENERGY

Federal Energy Regulatory Commission

Notice of Application for Amendment of License and Soliciting Comments, Motions To Intervene, and Protests

April 5, 2007.

a. Type of Application: Applications for Amendment of Licenses to Reflect Settlement Agreement.

b. Project Numbers: P-2528-084, P-2527-064, P-2194-032, P-2531-058, P-2529-086, P-2530-044.

c. Date Filed: March 27, 2007.

d. Applicant: FPL Energy Maine Hydro LLC (licensee).

e. Name of Projects: Cataract Project (FERC No. 2528), Skelton Project (FERC No. 2527), Bar Mills Project (FERC No. 2194), West Buxton Project (FERC No. 2531), Bonny Eagle Project (FERC No. 2529), Hiram Project (FERC No. 2530).

f. Location: The projects are located on the Saco River in Cumberland, Oxford, and York Counties, ME.

g. Filed Pursuant to: Federal Power Act, 16 U.S.C. 791a-825r.

h. Applicant Contact: Frank Dunlap, FPL Energy Maine Hydro LLC, 160 Capitol Street, Suite 8, Augusta, ME 04330, phone (207) 623-8417.

i. FERC Contact: Any questions on this notice should be addressed to Blake Condo at (202) 502-8914, or e-mail address: blake.condo@ferc.gov.

j. Deadline for filing comments and/or motions: May 4, 2007.

k. Description of Request: The licensee filed a 2000-2005 Final Assessment Report-Saco River Fish Passage (assessment), along with a comprehensive Settlement Agreement (agreement), concerning fish passage and fisheries management at the above referenced projects on the Saco River in southern Maine. The assessment is required by the existing licenses for the projects. The agreement incorporates fish passage and other fisheries management measures recommended by the assessment. The agreement is between the licensee, U.S. Fish and Wildlife Service, National Marine Fisheries Service, Maine Atlantic Salmon Commission, Maine Department of Inland Fisheries and Wildlife, Maine Department of Marine Resources, Saco River Salmon Club, Atlantic Salmon Federation, and Maine Council of the Atlantic Salmon Federation. The agreement concerns the resolution of various disputes and issues regarding both upstream and downstream fish passage and management including license article 403 for the Cataract Project, articles 405, 406, and 407 for the Skelton Project, article 404 for the West Buxton Project, articles 404, 405, 406, 407, and 408 for the Bonny Eagle Project. The Bar Mills Project is currently undergoing re-licensing and any new provisions as described in the agreement will be evaluated under the current re-licensing proceeding. The agreement will provide a new schedule for completion of various fish passages, effectiveness studies on the new fishways, fishway operating procedures, American eel management measures, anadromous fish management measures, and additional studies within the Saco River. The licensee requests that the Commission amend the above license articles to reflect the provisions of the agreement. Additionally the agreement proposes provisions not contained in any license article for the Hiram Project and requests that those provisions be added to the license.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers (P-2528, P-2527, P-2194, P-2531, P-2529, and P-2530). All documents (original and eight copies) should be filed with: Secretary, Federal Energy Regulatory Commission, 888 First Street, NE., Washington, DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Philis J. Posey,
Acting Secretary.

[FR Doc. E7-6798 Filed 4-10-07; 8:45 am]

BILLING CODE 6717-01-P